DEPARTMENT OF LABOR

Agency Information Collection Activities; Submission for OMB Review; Comment Request; Evaluation of the Pathway Home Grant Program, New Collection

AGENCY: Office of the Assistant Secretary for Policy, Chief Evaluation Office, Department of Labor.

ACTION: Notice of Information Collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data for the Evaluation of the Pathway Home Grant Program. A copy of the proposed Information Collection Request (ICR) can be obtained by contacting the office listed below in the addressee section of this notice.

DATES: Written comments must be submitted to the office listed in the addressee section below on or before January 3, 2022.

ADDRESSES: You may submit comments by either one of the following methods: Email: ChiefEvaluationOffice@dol.gov; Mail or Courier: Jessica Lohmann, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Jessica Lohmann by email at ChiefEvaluationOffice@dol.gov or by phone at (202) 693-5087.

SUPPLEMENTARY INFORMATION: I. Background: The Chief Evaluation Office (CEO) of the U.S. Department of Labor (DOL) intends to conduct an evaluation of the DOL-funded Pathway Home grant program, which aims to improve the ability of people in the justice system to find meaningful employment and avoid recidivism. The goal of this four-year evaluation is to build knowledge about the implementation of the Pathway Home grants and their effectiveness in improving employment and recidivism outcomes for adults reentering the community after incarceration.

The overall study has two components: (1) An implementation evaluation of the Pathway Home grants to describe program models and services, partnerships, and participant characteristics; and (2) an impact evaluation to examine the effectiveness of the Pathway Home grants on participants' outcomes, such as credential attainment, employment and earnings, and ongoing criminal justice involvement. DOL will submit additional ICRs for future data collection requests for this study.

This Federal Register Notice provides the opportunity to comment on the following proposed data collection instruments that the evaluation will use:

1. Baseline survey of study participants. Survey of 2,500 impact study participants to collect basic demographic information.

2. Survey of grant administrators. Survey of approximately 67 grant administrators to collect program information.

3. Survey of correctional facility administrators. Survey of approximately 128 correctional facility partner administrators to collect information about correctional facility characteristics.

4. Semi-structured interview guides for program and partner administrators and frontline staff. Site visits to up to 16 Pathway Home grantee or subgrantee sites. These visits will last three days each. During these site visits, we will conduct one-on-one or small-group, semi-structured interviews with grant program administrators, partner administrators, and frontline staff.

5. Focus group guide for pre-release program participants. In-person focus group discussions with approximately 8 pre-release participants from each of approximately 16 sites.

6. Semi-structured interview guide for post-release program participants. In-person and telephone semi-structured interviews with approximately 8 post-release participants from each of approximately 16 sites

II. Desired Focus of Comments: Currently, DOL is soliciting comments on the above data collection for the Pathway Home grant program. DOL is particularly interested in comments that do the following:

○ Evaluate whether the proposed collection of information is necessary for the proper performance functions of the agency, including whether the information will have practical utility;

○ Evaluate the accuracy of the agency's burden estimate of the proposed information collection, including the validity of the methodology and assumptions;

○ Enhance the quality, utility, and clarity of the information to be collected; and

○ Minimize the burden of the collection of information on those who are to respond, including through the use of appropriate automated, electronic, mechanical, or other technological collection techniques or other forms of information technology—for example, permitting electronic submissions of responses.

III. Current Actions: At this time, DOL is requesting clearance for the baseline survey of study participants, survey of grantee administrators, survey of correctional facility administrators, interview guide for program and partner administrators and staff, focus group guide for program participants, and interview guide for program participants.

Type of Review: New information collection request.

OMB Control Number: 1290-0-NEW.

Affected Public: Program administrators and frontline staff, program partners including correctional facility administrators, and evaluation participants.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
Baseline survey of study participants | ¹ 833 | 1 | 833 | .25 | 208
Survey of grantee administrators | ² 22 | 1 | 22 | .5 | 11
Survey of correctional facility administrators | ³ 43 | 1 | 43 | .33 | 14
Semi-structured interview guide: Grant administrators | ⁴ 43 | 1 | 43 | 1.5 | 65
Semi-structured interview guide: Partner administrators | ⁵ 53 | 1 | 53 | 1 | 53
Semi-structured interview guide: Frontline staff | ⁶ 80 | 1 | 80 | 1.5 | 120
Focus group guide for program participants | ⁷ 38 | 1 | 38 | 1.5 | 57
Semi-structured interview guide for program participants | ⁸ 43 | 1 | 43 | 1 | 43
Total | 1,155 |  | 1,155 |  | 571
¹ Assumes 2,500 impact study participants over the three-year clearance period.
² Assumes 67 grantee administrators over the three-year clearance period.
³ Assumes 128 correctional facility administrators over the three-year clearance period.
⁴ Assumes 112 direct grant administrators from six sites and 18 intermediary grant administrators from 16 sites over the three-year clearance period.
⁵ Assumes 160 partner administrators from 16 sites over the three-year clearance period.
⁶ Assumes 240 frontline staff from 16 sites over the three-year clearance period.
⁷ Assumes 115 pre-release participants from 16 sites over the three-year clearance period.
⁸ Assumes 128 post-release participants from 16 sites over the three-year clearance period.

Christina Yancey,
Chief Evaluation Officer, U.S. Department of Labor.

[FR Doc. 2021-24057 Filed 11-3-21; 8:45 am]

BILLING CODE 4510-HX-P